DEPARTMENT OF COMMERCE

International Trade Administration

[A-570-916]

Laminated Woven Sacks from the People's Republic of China: Extension of the Time Limit for the Preliminary Results of the Antidumping Duty Administrative Review

AGENCY: Import Administration, International Trade Administration, Department of Commerce.

DATES: April 20, 2010

FOR FURTHER INFORMATION CONTACT: Zev Primor, AD/CVD Operations, Import Administration, International Trade Administration, U.S. Department of Commerce, 14th Street and Constitution Avenue, NW, Washington, DC 20230, telephone: (202) 482-4114.

SUPPLEMENTARY INFORMATION: On September 22, 2009, the Department of Commerce (“Department”) published a notice of initiation of an administrative review of the antidumping duty order on laminated woven sacks from the People's Republic of China. See Initiation of Antidumping and Countervailing Duty Administrative Reviews and Requests for Revocation in Part, 74 FR 48224 (September 22, 2009). The period of review is January 31, 2008, through July 31, 2009. The preliminary results of the administrative review are currently due no later than May 10, 2010.

Extension of Time Limit for Preliminary Results

Pursuant to section 751(a)(3)(A) of the Tariff Act of 1930, as amended (the “Act”), the Department shall make a preliminary determination in an administrative review of an antidumping duty order within 245 days after the last day of the anniversary month of the date of publication of the order. However, if it is not practicable to complete the review within this time period, section 751(a)(3)(A) of the Act allows the Department to extend the time period to a maximum of 365 days. Completion of the preliminary results of this review within the 245-day period is not practicable because the Department needs additional time to analyze information pertaining to the respondents' sales practices, factors of production, subject merchandise and corporate relationships, to issue and review responses to supplemental questionnaires. Therefore, in accordance with section 751(a)(3)(A) of the Act, the Department is extending the time period for completing the preliminary results of the instant administrative review by 90-days from May 10, 2010, until August 9, 2010, the first business day after the 90-day extended due date of August 8, 2010.¹ The final results continue to be due 120 days after the publication of the preliminary results.

¹ As explained in the memorandum from the Deputy Assistant Secretary for Import Administration, the Department has exercised its discretion to toll deadlines for the duration of the closure of the Federal Government from February 5, through February 12, 2010. As a result, all deadlines in this segment of the proceeding have been extended by seven days, and the revised deadline for the preliminary results became May 10, 2010. See Memorandum to the Record from Ronald Lorentzen, DAS for Import Administration, regarding “Tolling of Administrative Deadlines As a Result of the Government Closure During the Recent Snowstorm,” dated February 12, 2010.

This notice is published pursuant to sections 751(a) and 777(i) of the Act.

Dated: April 13, 2010.
Barbara E. Tillman,
Acting Deputy Assistant Secretary for Antidumping and Countervailing Duty Operations.

[FR Doc. 2010-9080 Filed 4-19-04; 8:45 am]

BILLING CODE 3510-DS-S